ENVIRONMENTAL PROTECTION AGENCY

[EPA-HQ-OPP-2014-0502; FRL-9921-92]

Badger Technical Services, LLC; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Badger Technical Services, LLC, in accordance with 40 CFR 2.307(h)(3) and 2.308(i)(2). Badger Technical Services, LLC, has been awarded multiple contracts to perform work for OPP, and access to this information will enable Badger Technical Services, LLC, to fulfill the obligations of the contract.

DATES: Badger Technical Services, LLC, will be given access to this information on or before February 17, 2015.

FOR FURTHER INFORMATION CONTACT: Mario Steadman, Information Technology and Resources Management Division (7502P), Office of Pesticide Programs, Environmental Protection Agency, 1200 Pennsylvania Ave. NW., Washington, DC 20460-0001; telephone number: (703) 305-8338, steadman.mario@epa.gov.

SUPPLEMENTARY INFORMATION:

I. General Information

A. Does this action apply to me?

This action applies to the public in general. As such, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2014-0502. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4:00 p.m., Monday through Friday, excluding legal holidays. The Docket Facility telephone number is (703) 305-5805.

II. Contractor Requirements

Under this contract number, EP-D-13-052, the contractor will perform the following:

Furnish the necessary personnel, supplies, and equipment except as otherwise defined, to perform toxicological and ecological research support services for the United States, EPA, ORD/NHEERL Mid-Continent Ecology Division (MED), Duluth, Minnesota. Obtain from sources which have been approved by EPA, transport or arrange for shipping to MED, and hold in the culturing unit, cultures of multiple species of fish and invertebrates. Operate and maintain the Organism Culture Unit 24 hours a day, seven days a week, with the goal of providing the highest quality organisms for MBD's research projects. Provide electronic scientific equipment support.

This contract involves no subcontractors.

OPP has determined that the contract described in this document involves work that is being conducted in connection with FIFRA, pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with Badger Technical Services, LLC, prohibits use of the information for any purpose not specified in this contract; prohibits disclosure of the information to a third party without prior written approval from the Agency; and requires that each official and employee of the contractor sign an agreement to protect the information from unauthorized release and to handle it in accordance with the FIFRA Information Security Manual. In addition, Badger Technical Services, LLC, is required to submit for EPA approval a security plan under which any CBI will be secured and protected against unauthorized release or compromise. No information will be provided to Badger Technical Services, LLC, until the requirements in this document have been fully satisfied. Records of information provided to Badger Technical Services, LLC, will be maintained by EPA Project Officers for this contract. All information supplied to Badger Technical Services, LLC, by EPA for use in connection with this contract will be returned to EPA when Badger Technical Services, LLC, has completed its work.

Authority: 7 U.S.C. 136 et seq.

Dated: January 28, 2015.
Mark A. Hartman,
Director, Information Technology and Resource Management Division, Office of Pesticide Programs.

[FR Doc. 2015-02580 Filed 2-10-15; 8:45 am]

BILLING CODE 6560-50-P